DEPARTMENT OF AGRICULTURE

Natural Resources Conservation Service

[Docket No. NRCS-2013-0005]

Notice of Availability of the Record of Decision (ROD) and Finding of No Significant Impact (FONSI) for the Bayou Meto Basin Project, Arkansas

AGENCY: Natural Resources Conservation Service (NRCS), USDA.

ACTION: Notice of availability of Record of Decision and Finding of No Significant Impact.

SUMMARY: This notice announces NRCS' adoption, under provisions provided for in 40 CFR 1506.3 of the U.S. Army Corps of Engineers' Final Environmental Impact Statement (EIS) entitled: “General Reevaluation Report and Environmental Impact Statement for the Bayou Meto Basin project dated November 2006 and revised March 2007” (GRR/EIS) and the availability of an associated NRCS ROD. NRCS has also adopted the Environmental Assessment (EA) entitled “Final Environmental Assessment Bayou Meto Basin, Arkansas Post General Reevaluation Design Changes” dated July 21, 2010, and an NRCS FONSI for the EA is available.

ADDRESSES: Copies of the ROD and FONSI are available upon request from the Natural Resources Conservation Service, Room 3416, Federal Building, 700 West Capitol Avenue, Little Rock, Arkansas 72201-3225.

FOR FURTHER INFORMATION CONTACT: Charlotte Bowie, State Irrigation Engineer, Natural Resources Conservation Service, Room 3416, Federal Building, 700 West Capitol Avenue, Little Rock, Arkansas 72201-3225; telephone: (501) 301-3148.

SUPPLEMENTARY INFORMATION: NRCS prepared the ROD and FONSI in compliance with the National Environmental Policy Act after reviewing the EIS and the EA and concurring with the analysis and findings therein, and finding that the proposed project modifications described in the EA will not result in significant impacts to the environment.

The project area is located in east central Arkansas in Lonoke, Pulaski, Prairie, Jefferson, and Arkansas Counties, which forms the Bayou Meto Improvement Project Area. The project provides a water supply and on-farm infrastructure for irrigation, waterfowl habitat, and flood damage reduction of the Bayou Meto area of Arkansas.

Signed this 13th day of September, 2013, in Washington, DC
Terry J. Cosby,
Acting Regional Conservationist, Natural Resources Conservation Service.

[FR Doc. 2013-23133 Filed 9-23-13; 8:45 am]

BILLING CODE 3410-16-P